DEPARTMENT OF HEALTH AND HUMAN SERVICES

Agency for Healthcare Research and Quality

Meeting of the Citizens' Health Care Working Group

AGENCY: Agency for Healthcare Research and Quality (AHRQ), HHS.

ACTION: Notice of public meetings.

SUMMARY: In accordance with section 10(a) of the Federal Advisory Committee Act, this notice announces meetings of the Citizens' Health Care Working Group (the Working Group) mandated by section 1014 of the Medicare Modernization Act.

DATES: Business meetings of the Working Group will be held on Wednesday, September 21, 2005 from 3:30 to 5 p.m. and Thursday, September 22, 2005 from 8:30 a.m. to 11:30 a.m. A public meeting with invited speakers will take place on Friday, September 23 from 9 a.m. to 2:30 p.m. This meeting will focus on Oregon's experience in engaging the public in developing health care policy.

ADDRESSES: Events for all three days will take place in the Portland City Hall, 1221 SW. 4th Avenue, Portland, Oregon 97204. The Working Group business meetings on both Wednesday and Thursday will take place in the Rose Room. Friday's meeting will take place in the City Council Chambers.

All meetings are open to the public.

FOR FURTHER INFORMATION CONTACT: Caroline Taplin, Citizens' Health Care Working Group, at (301) 443-1514 or ctaplin@ahrq.gov. If sign language interpretation or other reasonable accommodation for a disability is needed, please contact Mr. Donald L. Innis, Director, Office of Equal Employment Opportunity Program, Program Support Center, on (301) 443-1144.

The agendas for these three Working Group meetings are available on the Citizens' Working Group Web site, http://www.citizenshealthcare.gov. Also available at that site is a roster of Working Group members. When transcriptions of the Group's September meetins are completed, they will also be available on the Web site.

SUPPLEMENTARY INFORMATION: Section 1014 of Pub. L. 108-173, (known as the Medicare Modernization Act) directs the Secretary of the Department of Health and Human Services (DHHS), acting through the Agency for Healthcare Research and Quality, to establish a Citizens' Health Care Working Group (Citizen Group). This statutory provision, codified at 42 U.S.C. 299n., directs the Working Group to: (1) Identify options for changing our health care system so that every American has the ability to obtain quality, affordable health care coverage; (2) provide for a nationwide public debate about improving the health care system; and (3) submit its recommendations to the President and the Congress.

The Citizens' Health Care Working Group is composed of 15 members: the Secretary of DHHS is designated as a member by the statute and the Comptroller General of the U.S. Government Accountability Office (GAO) was directed to name the remaining 14 members whose appointments were announced on February 28, 2005.

Working Group Meeting Agendas

The Working Group business meetings on September 21 and 22 will be devoted to ongoing Working Group business. Topics to be addressed are expected to include: reports from Working Group Committees, plans for release of the required Report to the American people, and plans for community meetings and other activities to engage the public.

At the public meeting on September 23, invited speakers will discuss Oregon's experiences in engaging the public in discussions of health policy.

Submission of Written Information

In general, individuals or organizations wishing to provide written information for consideration by the Citizens' Health Care Working Group should submit information electronically to citizenshealth@ahrq.gov. The Working Group invites submissions on those topics to be addressed at the Working Group business meetings listed above. Since all electronic submissions will be posted on the Working Group web site, separate submissions by topic will facilitate review of ideas submitted on each topic by the Working Group and the public.

Dated: September 1, 2005.
Carolyn M. Clancy,
Director.

[FR Doc. 05-18389 Filed 9-13-05; 9:47 am]

BILLING CODE 4160-90-M